DEPARTMENT OF TRANSPORTATION

National Highway Traffic Safety Administration

Reports, Forms and Record Keeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on February 28, 2001 [66 FR 12829—12831].

DATES: Comments must be submitted on or before January 9, 2002.

FOR FURTHER INFORMATION CONTACT: Alberto Jimenez at the National Highway Traffic Safety Administration, Office of Defects and Investigations (NSA-10.1), 202-366-5212. 400 Seventh Street, SW., Room 5219, Washington, DC 20590.

SUPPLEMENTARY INFORMATION:

National Highway Traffic Safety Administration

Title: Voluntary Child Safety Registration Form.

OMB Number: 2127—0576.

Type of Request: Reinstatement, with change, of a previously approved collection for which approval has expired.

Abstract: Chapter 301 of Title 49 of the United States Code provides that if either NHTSA or a manufacturer determines that motor vehicles or items of motor vehicle equipment contain a defect that relates to motor vehicle safety or fail to comply with an applicable Federal Motor Vehicle Safety Standard, the manufacturer must notify owners and purchasers of the defect or noncompliance and must provide a remedy without charge. Pursuant to 49 CFR Part 577 Defects and noncompliance notification for equipment items, including child safety seats, must be sent “by first class mail to the most recent purchaser known to the manufacturer.” In the absence of a registration system, many owners of child safety seats are not notified of safety defects and noncompliance, since the manufacturer is not aware of their identities.

Affected Public: Individuals or households.

Estimated Total Annual Burden: 120.

ADDRESSES: Send comments, within 30 days, to the Office of Information and Regulatory Affairs, Office of Management and Budget, 725-17th Street, NW, Washington, DC 20503, Attention NHTSA Desk Officer.

Comments are invited on: Whether the proposed collection of information is necessary for the proper performance of the functions of the Department, including whether the information will have practical utility; the accuracy of the Departments estimate of the burden of the proposed information collection; ways to enhance the quality, utility and clarity of the information to be collected; and ways to minimize the burden of the collection of information on respondents, including the use of automated collection techniques or other forms of information technology.

A comment to OMB is most effective if OMB receives it within 30 days of publication.

Issued in Washington, DC, on November 26, 2001.
Delmas Johnson,
Acting Associate Administrator for Administration.

[FR Doc. 01-30420 Filed 12-7-01; 8:45 am]

BILLING CODE 4910-59-P